DEPARTMENT OF TRANSPORTATION

Federal Aviation Administration

14 CFR Part 71

[Airspace Docket No. 99-AGL-56]

Modification of Class D Airspace; Grand Forks AFB, ND

AGENCY: Federal Aviation Administration (FAA), DOT.

ACTION: Final rule.

SUMMARY: This action modifies Class D airspace at Grand Forks AFB, ND. This action amends the effective hours of the Class D surface area to coincide with the airport traffic control tower (ATCT) hours of operation for Grand Forks AFB. The purpose of this action is to clarify when two-way radio communication with the ATCT is required.

EFFECTIVE DATE: 0901 UTC, April 20, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Friday, December 3, 1999, the FAA proposed to amend 14 CFR part 71 to modify Class D airspace at Grand Forks AFB, ND (64 FR 67810). The proposal was to amend the effective hours to coincide with the ATCT hours of operation for Grand Forks AFB. Controlled airspace extending upward from the surface is needed to contain Instrument Flight Rules (IFR) operations during portions of the terminal operation and while transiting between the enroute and terminal environments. Interested parties were invited to participate in this rulemaking proceeding by submitting written comments on the proposal to the FAA. No comments objecting to the proposal were received. Class D airspace designations are published in paragraph 5000 of FAA Order 7400.9G dated September 1, 1999, and effective September 16, 1999, which is incorporated by reference in 14 CFR 71.1. The Class D airspace designation listed in this document will be published subsequently in the Order.

The Rule

This amendment to 14 CFR part 71 modifies Class D airspace at Grand Forks AFB, ND, by amending the effective hours to coincide with the ATCT hours of operation for Grand Forks AFB. The area will be depicted on appropriate aeronautical charts.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPRACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

* * * * *

Paragraph 5000 Class D airspace.

* * * * *

AGL ND D Grand Forks AFB, ND [Revised]

Grand Forks AFB, ND

(Lat. 47° 57′ 40′′ N., long. 97° 24′ 04″ W.)

That airspace extending upward from the surface to and including 3,400 feet MSL within an 4.9-mile radius of Grand Forks AFB, and within 2.3 miles each side of the 174° bearing from the AFB extending from the 4.9-mile radius of the AFB to 5.6 miles south of the AFB, excluding that airspace within the Grand Forks, ND, Class D airspace area. This Class D airspace area is effective during the specific dates and times established in advance by Notice to Airmen. The effective date and time will thereafter be continuously published in the Airport/Facility Directory.

* * * * *

Issued in Des Plaines, Illinois on February 3, 2000.
Christopher R. Blum,
Manager, Air Traffic Division.

[FR Doc. 00-3974 Filed 2-17-00; 8:45 am]

BILLING CODE 4910-13-M